NUCLEAR REGULATORY COMMISSION

[Docket No. 72-1051; ASLBP No. 18-958-01-ISFSI-BD01]

Establishment of Atomic Safety and Licensing Board: Holtec International

Pursuant to delegation by the Commission, see 37 FR 28710 (Dec. 29, 1972), and the Commission's regulations, see, e.g., 10 CFR 2.104, 2.105, 2.300, 2.309, 2.313, 2.318, 2.321, notice is hereby given that an Atomic Safety and Licensing Board (Board) is being established to preside over the following proceeding:

Holtec International

(HI-STORE Consolidated Interim Storage Facility)

This proceeding involves an application by Holtec International requesting a license to construct and operate the HI-STORE Consolidated Interim Storage Facility in Lea County, New Mexico. In response to a notice published in the Federal Register announcing the opportunity to request a hearing, see 83 FR 32919 (July 16, 2018), multiple requests for hearing and requests to participate as an interested local governmental body have been filed.

The Board is comprised of the following Administrative Judges:

• Paul S. Ryerson, Chairman, Atomic Safety and Licensing Board Panel, U.S. Nuclear Regulatory Commission, Washington, DC 20555-0001.

• Nicholas G. Trikouros, Atomic Safety and Licensing Board Panel, U.S. Nuclear Regulatory Commission, Washington, DC 20555-0001.

• Dr. Gary S. Arnold, Atomic Safety and Licensing Board Panel, U.S. Nuclear Regulatory Commission, Washington, DC 20555-0001.

All correspondence, documents, and other materials shall be filed in accordance with the NRC E-Filing rule. See 10 CFR 2.302.

Dated: October 31, 2018, in Rockville, Maryland.
Edward R. Hawkens,
Chief Administrative Judge, Atomic Safety and Licensing Board Panel.

[FR Doc. 2018-24193 Filed 11-5-18; 8:45 am]

BILLING CODE 7590-01-P